DEPARTMENT OF THE INTERIOR

Minerals Management Service

30 CFR Part 251

[Docket ID: MMS-2008-OMM-0006]

RIN 1010-AD41

Geological and Geophysical (G&G) Explorations of the Outer Continental Shelf—Changing Proprietary Term of Certain Geophysical Information

AGENCY: Minerals Management Service (MMS), Interior.

ACTION: Final rule.

SUMMARY: This final rule extends the proprietary term of certain reprocessed geophysical information submitted to MMS under a permit. The rule gives up to 5 years of additional protection to reprocessed vintage geophysical information that MMS retains and, without an extension, is subject to release by MMS 25 years after issuing the permit. The extension provides incentives to permittees and third parties to reprocess, market, or in other ways use geophysical information that may not otherwise be reprocessed without the term extension. The extension does not apply to geological data or information.

DATES: Effective Date: This rule becomes effective on September 14, 2009.

FOR FURTHER INFORMATION CONTACT: David Zinzer, Geophysicist, Offshore Energy and Minerals Management, Resource Evaluation Division, at (703) 787-1628.

SUPPLEMENTARY INFORMATION: This final rule implements changes put forward by our proposed rulemaking published June 18, 2007 (72 FR 33417). The comment period ended August 17, 2007. The MMS received four sets of written comments. One set of comments and recommendations was from an industry association; two sets were from third party users of geophysical data and information collected on the Outer Continental Shelf (OCS); and one set was from the public.

Summary of Proposed Rulemaking

The MMS proposed to extend, upon successful application to MMS, the proprietary term of geophysical information that a permittee or third party reprocessed 20 or more years after MMS issued the germane permit under which the originating data were collected. The rule proposed to give up to 5 years of additional protection to reprocessed vintage geophysical information that MMS retains and, without an extension, is subject to release by MMS 25 years after issuing the permit. The extension provides incentives to permittees and third parties to reprocess, market, or in other ways use geophysical information that may not otherwise be reprocessed without the term extension.

Analysis of Comments and Recommendations

The MMS has decided to proceed with the final rule after carefully considering all written comments on the proposed rulemaking.

Comment: One commenter continued to comment about issues and changes put forward by our proposed rulemaking, published July 17, 2002 (67 FR 46942), and the subsequent related final rulemaking, published March 30, 2006 (71 FR 16033).

Response: Changes put forth by the June 18, 2007, proposed rulemaking are directly addressed in this final rulemaking. However, MMS has clarified, where necessary, certain points or matters that pertain to all of 30 CFR part 251.

Comment: Three comments cited the substantial costs that can be incurred in reprocessing existing geophysical information. One estimated costs of reprocessing exclusive 2-D data of $5-10 million for a project of 5,000 sq. km (1,930 sq./mi.). The second comment noted several geophysical service companies have and continue to invest vast amounts of capital in the acquisition, processing, and reprocessing of nonexclusive geophysical data; and that the annual aggregate of investments by companies in the Gulf of Mexico (GOM) and other OCS areas is in the hundreds-of-millions of dollars. A third comment stated the time involved (typically about 1 year) in reprocessing and the substantial costs that can be incurred in reprocessing existing geophysical information warrant a minimum of 10 years proprietary term extension.

Response: The MMS recognizes the significant investment that the geophysical service industry and oil and gas industry make in acquiring, licensing, processing, and reprocessing geophysical data and information; and that the competitive and economic value of these data and information continues during the proprietary period. However, only data and information that are selected and retained by MMS will be released to the public. Data and information not retained by MMS are not subject to release by MMS; therefore, the extension does not apply to data and information not retained by MMS. The MMS maintains that the original proprietary term and the 5-year extension in the proposed rule provide an adequate incentive for investing in reprocessing and the opportunity to recoup that investment.

Comment: One comment noted that all processed or reprocessed geophysical information is of value to a licensee (third party). Instances of licensees applying their own processing techniques should be considered the exception rather than the norm; Exploration and Production (E&P) companies license raw data (from permittees). It appears that MMS is failing to consider or fully appreciate that an operator must secure a license to geophysical information in order to apply those additional processing techniques. MMS states that these sophisticated processing techniques are only performed by E&P companies, an assertion and premise the commenter categorically rejects. The commenter also noted that reprocessing of geophysical information can and does occur numerous times over a number of years.

Response: The MMS recognizes that geophysical companies make significant investment in developing reprocessed geophysical information, apply advanced algorithms and other sophisticated techniques in reprocessing geophysical information for license or sale, and acknowledges the recurrence of reprocessing during the proprietary period. Also for clarification, MMS reminds permit applicants that we issue separate geological and geophysical permits, or one of each, for a survey. The MMS does not issue a combined geological and geophysical permit, i.e., there is no “G&G” permit per se.

Comment: One comment noted that the proposed rule requires filing for an extension of the proprietary term (after a 1-year grace period) within 30 days of completion of reprocessing. The commenter believes this required time is too short and recommends the required time to file for an extension should be extended to 90 days.

Response: The MMS agrees that 30 days may be an insufficient amount of time to file for an extension, and will allow permittees and third parties up to 90 days to file (see § 251.14(b)(2)). The sooner an application is filed, the sooner MMS may approve the extension.

Comment: Another comment requested that MMS not require a seismic company to apply for an extension. If MMS still requires submission of an application, then MMS should allow the seismic company to submit the application as early as the 15th anniversary of the originating permit. The commenter also stated that MMS' proposed rulemaking creates a new administrative and management burden on MMS of tracking these extensions and the geophysical data and information to which they apply.

Response: The MMS does not require a permittee to apply for an extension of the proprietary term; absent an extension, the reprocessed information would retain its 25-year term. However, an approved application is required for a permittee to get an extension of the term. Adding 5 years to the proprietary term for information reprocessed between 15 and 20 years after the permit date will not extend the term beyond the original 25-year term. Extending the term for information that is reprocessed 20 or more years after the permit date allows a sufficient amount of time for permittees and third parties to market, sell, trade, license, or otherwise use the reprocessed information, and allows MMS to keep the number of applications for an extension at a manageable level.

Comment: One comment questioned MMS' estimates of $3 million to $25 million in revenue over the first 5 years after the rule becomes effective, generated by licensing or selling geophysical information reprocessed 20 or more years after MMS issued the germane permit and for which MMS extended the proprietary term. The commenter also questioned why most eligible vintage geophysical information would come from the Alaska OCS.

Response: These are revenue estimates only, expected to be in the ballpark but with a wide range. The MMS believes that the best market for this type of vintage, reprocessed geophysical information is in the Alaska OCS where little or no modern 3-D information exists and where OCS lease sales are currently scheduled. While reprocessed vintage 2-D and 3-D geophysical information in the GOM that MMS retains is eligible for 5-year extensions of the 25-year proprietary term, there is less demand as modern 2-D and 3-D information is available in most of the same areas.

Comment: One comment asked for clarification of a “germane permit.” Another commenter used the term “underlying permit” in their comments.

Response: Both refer to the MMS permit under which the original raw data were collected by the permittee.

Comment: One commenter recommended MMS add to the rule definitions for processed geophysical information and date of completion of reprocessing. Another commenter recommended adding the definition of reprocessing.

Response: The definitions for processed geophysical information and reprocessing are already in the 30 CFR 251 regulations (see § 251.1). It appears that commenters were not clear on what definitions apply to this rulemaking. The definition for processed geophysical information is contained in the definition titled processed geophysical or geological information. The definition for reprocessing is also contained in that same definition—reprocessing is the additional processing other than ordinary processing used in the general course of evaluation. The MMS interprets date of completion to be the date that the reprocessed information first becomes available in a useable format for inhouse interpretation by MMS or the permittee, or first becomes available to third parties via sale, trade, license agreement, or other means. We revised the definition of processed geophysical or geological information to include this wording for date of completion. To further clarify that this revised regulation applies strictly to reprocessed geophysical information, we have added definitions for geophysical information and geological information to the rule. Also, to recognize its growing use as a major geophysical technique in the OCS, electromagnetic is added to the list of key geophysical techniques in the definition of geophysical exploration.

Comment: One commenter believes there is justification for greater than a 5-year term extension, stating that Brazil has a 10-year reset when data are reprocessed before they are made public.

Response: The confidentiality (proprietary) period for geophysical data/information collected offshore Brazil by data acquisition companies (similar to permittees in the U.S.) is 10 years, plus an additional 10 years if the information is reprocessed during the initial 10-year confidentiality period. In Brazil and other countries, “data” and “information” are treated the same with regards to a proprietary term. For the U.S. OCS, geophysical data has a 50-year proprietary term while processed geophysical information has a 25-year term.

Comment: The commenter strongly supports the proposed rule and urges MMS to adopt the proposed changes quickly. The proposed rule is necessary to amend changes to the final rule in 2006, which modifies the start dates of proprietary terms for geophysical data and information and any derivatives of these data. The commenter also supports provisions in the proposed rule that would allow multiple extensions up to a maximum of 50 years.

Response: The MMS believes that the proposed extension of up to 5 years of the proprietary term of geophysical information that a permittee or third party reprocessed 20 or more years after MMS issued the germane permit under which the originating data were collected, is fair and appropriate.

Comment: Another commenter similarly believes that the concept of an extension to the proprietary period for geophysical information is a much needed addition to the regulations as they currently exist after the changes enacted in 2006. The commenter contends that the proposed extension is too short and should be extended to 10 years. The proposed 5-year extension would significantly limit the value of projects conducted by geophysical contractors and processing firms, and as a result, degrade the value of preexisting information and lessen interest in applying new reprocessing techniques to older information sets. A third commenter believes that proposing an additional 5 years, while certainly appreciated, does not adequately address concerns that the commenter articulated to the MMS Director in the April 21, 2006 letter and in a June 2006 workshop with MMS. The commenter recommends an extension by MMS of no less than 7 years. The commenter states that this is a reasonable amount of time to ensure that a seismic company will achieve a return on their investment of the reprocessed geophysical information and creates an incentive for the seismic companies to pursue and implement technological advances in processing that will certainly occur. In turn, this will minimize the need for acquiring more costly, new geophysical data that will be constrained by obstructions offshore and marine environmental concerns.

Response: The MMS maintains that the original proprietary term and the 5-year extension in the proposed rule provide an adequate incentive for investing in reprocessing and the opportunity to recoup that investment.

Comment: The commenter also suggests MMS state that the extension of the confidentiality period may be applied to other processed or reprocessed information derived from data collected under the same originating permit.

Response: The extension of the proprietary term will be determined separately for each approved application, including reprocessed information derived from data collected under the same originating permit.

Comment: Another commenter stated that the 25-year proprietary term was too long and objected to any extension of time. The commenter proposed a 10-year [basic] term with a 5-year extension for reprocessing geophysical data. If geophysical information is allowed to become public sooner, the effect would be to encourage exploration, allow the scientific community to access important information that could be valuable to research, and to give students training to be geophysicists a much more robust data set with which to hone their processing and interpretative skills.

Response: The MMS finds that an extension of the proprietary term, by up to 5 years, is appropriate. The MMS encourages geophysical service companies and E&P companies to make vintage and other geophysical information available, as soon as possible, to the science community, students, and to government agencies for research.

Comment: One commenter contends that most, if not all, processed or reprocessed geophysical information submitted to MMS includes data added as a convenience to the user that allows the user to work the data on seismic workstations. The additional data can be used by a third party to reverse-engineer the processing, allowing them to effectively obtain the raw underlying data, at which point they can apply their own processing techniques and market products as their own. The ending result would be a total violation of a seismic company's intellectual property rights. It would also raise a question as to whether MMS has any rights to that processed geophysical data, and whether MMS has breached its obligation to hold the raw seismic data in confidence for 50 years.

Response: The MMS does not acquire processed or reprocessed geophysical information that can be reverse-engineered back to its raw data format. Most geophysical information retained by MMS has undergone stacking and migration, following previous processing steps such as demultiplexing, gain adjustments, deconvolution, amplitude and velocity analyses, normal move-out corrections, and filtering. Other geophysical information, which has not undergone migration, would still require identification of field geometry (source and receiver locations) and other parameters and filters used to collect data before attempting reverse engineering. As such, the geophysical information that MMS retains enjoys a 25-year term, not a 50-year term since it is not, nor can it become, raw data.

Comment: The same commenter suggested that MMS incorporate in the rule, a comprehensive list of the criteria the Regional Director would use to determine whether to approve or deny a seismic company's application for an extension of the confidentiality period. Without stated criteria, a seismic company would have added uncertainty/risk to account for in its analysis and determination of whether to make an investment in reprocessing geophysical information in the later years of an originating permit.

The commenter also stated that requiring an application process to obtain an extension of the confidentiality period wrongly “implies that the seismic company may somehow be able to obfuscate the regulatory requirements of the original permit, submit geophysical information that is not in fact recently reprocessed geophysical information, or submit geophysical information that is not reprocessed geophysical information.”

Response: In according confidentiality to reprocessed geophysical information, MMS does not need and will not apply any criteria other than those specified in 30 CFR part 251, and in particular, the definitions of geophysical information and processed geophysical information as they appear in this rulemaking. An applicant who completes the MMS application for the 5-year extension of the proprietary term will furnish MMS all the information MMS will need to approve the protection. The application will request such information as name and address, the area in which the information was collected, permit number, date, description of the processing performed, date of completion of reprocessing, and certification that the geophysical information meets the definition of processed geophysical information. The MMS believes that the information required on the application is relevant to its approval of a seismic company's application for an extension.

Additional Clarification Added To the Final Rule

We have added a new paragraph to § 251.14(b) to make it clear that geophysical information that is granted the extension is subject to same submission, inspection, and selection criteria under 30 CFR 251.12 and reimbursement criteria identified under 30 CFR 251.13. This paragraph clarifies the intent that the reprocessed geophysical information is treated in the same manner as other geophysical data and information collected under a permit and processed by permittees or third parties. We also clarified paragraph (3) of § 251.14(b) by explicitly stating under what conditions one may apply for an extension for a new reprocessing of permitted data.

Procedural Matters

Regulatory Planning and Review (Executive Order (E.O.) 12866)

This final rule is not a significant rule as determined by the Office of Management and Budget (OMB) and is not subject to review under E.O. 12866.

(1) This final rule will not have an effect of $100 million or more on the economy. It will not adversely affect in a material way the economy, productivity, competition, jobs, the environment, public health or safety, or State, local, or tribal governments or communities.

The MMS estimates that over the first 5 years after the rule becomes effective, revenue generated by licensing or selling geophysical information reprocessed 20 or more years after MMS issued the germane permit, and for which MMS extended the proprietary term, will be in a range from $3 million to $25 million over the period. More revenue will be generated in the first year during which there is a 1-year grace period to apply for extensions of proprietary terms of all eligible reprocessed information. In subsequent years, applications must be filed within 90 days of completion of processing.

The range of estimated values depends on the number of lease sales in areas where eligible vintage geophysical information exists, mostly in the Alaska OCS, the amount and quality of reprocessed geophysical information, and economic factors. The MMS assumes 15 extensions will be approved over the 5-year period after this final rule is effective.

(2) This final rule will not create a serious inconsistency or otherwise interfere with an action taken or planned by another agency.

(3) This final rule will not alter the budgetary effects of entitlements, grants, user fees, or loan programs or the rights or obligations of their recipients.

(4) This final rule will not raise novel legal or policy issues arising out of legal mandates, the President's priorities, or the priorities set forth in E.O. 12866.

Regulatory Flexibility Act

The Department of the Interior certifies that this final rule will not have a significant economic effect on a substantial number of small entities under the Regulatory Flexibility Act (5 U.S.C. 601 et seq.).

This final rule will extend the proprietary term for vintage reprocessed geophysical information. The only entities affected by this final rule change are about 10 geophysical companies, if still in existence, whose reprocessed geophysical information being held by MMS may be released later than under current regulations. The Small Business Administration classifies geophysical surveying and mapping service companies under the North American Industry Classification System Code 541360. The criteria for determining a small entity for this classification code is annual receipts of less than $4.5 million. All of the 10 geophysical companies potentially affected by this final rule have annual receipts greater than $4.5 million; therefore, this final rule will not have a significant economic effect on a substantial number of small entities.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of MMS, call 1-888-734-3247. You may comment to the Small Business Administration without fear of retaliation. Allegations of discrimination/retaliation filed with the Small Business Administration will be investigated for appropriate action.

Small Business Regulatory Enforcement Fairness Act

The final rule is not a major rule under 5 U.S.C. 804(2) of the Small Business Regulatory Enforcement Fairness Act. This final rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act

This final rule will not impose an unfunded mandate on State, local, or tribal governments or the private sector of more than $100 million per year. The final rule will not have an effect on State, local, or tribal governments or the private sector. A statement containing the information required by the Unfunded Mandates Reform Act (2 U.S.C. 1501 et seq.) is not required.

Takings Implication Assessment (E.O. 12630)

Under the criteria in E.O. 12630, this final rule does not have significant takings implications. The final rule is not a governmental action capable of interference with constitutionally protected property rights. A Takings Implication Assessment is not required.

Federalism (E.O. 13132)

Under the criteria in E.O. 13132, this final rule does not have federalism implications. This final rule will not substantially and directly affect the relationship between the Federal and State governments. To the extent that State and local governments have a role in OCS activities, this final rule will not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175)

Under the criteria in E.O. 13175, we have evaluated this final rule and determined that it has no substantial effects on federally recognized Indian tribes. There are no Indian or tribal lands in the OCS.

Paperwork Reduction Act (PRA)

This rule contains a new information collection requirement; therefore, a submission to OMB under the PRA is required. The OMB has approved the new requirement under OMB Control Number 1010-0179 (expiration 08/31/2012; total 3 burden hours). Once the rulemaking becomes effective, we will consolidate the burden into the primary collection, 30 CFR 251, 1010-0048.

The title of the collection of information is “30 CFR part 251, Request for Geophysical Extension.” Respondents include approximately 10 Federal OCS permittees. Responses to this collection are required to obtain or retain a benefit. The frequency of reporting is on occasion. The MMS will protect proprietary information according to the Freedom of Information Act (5 U.S.C. 552) and its implementing regulations (43 CFR part 2), and under regulations at 30 CFR part 251. The information collection does not include questions of a sensitive nature.

The final regulation will allow permittees and third parties to apply for an up to 5-year extension of the 25-year proprietary term within 90 days after the date of completion of the reprocessing. This benefit adds 3 new burden hours to the information collection requirements already approved for 30 CFR part 251. The rulemaking imposes no new non-hour burden costs. Refer to the chart for the new requirement and burden.

30 CFR 251 | Reporting and recordkeeping requirement | Hour burden | Average number of annual responses | Annual burden hours
251.14(b)(3) | Request extension of time period for permitted activities | Burden included in 30 CFR Part 251 (1010-0048) |  | 0
251.14(b)(1), (2), (3) | NEW: Apply for extension of the proprietary term for geophysical information within 90 days after reprocessing completion date; any subsequent extension requests | 1 | 3 Extensions | 3
Total |  |  | 3 responses | 3

Based on a comment received during the proposed rule stage, MMS extended the time allowed for respondents to request an extension of the proprietary term from 30 days to 90 days after completion of reprocessing. This change did not affect the paperwork burden between the proposed and final rule.

A Federal agency may not conduct or sponsor, and a person is not required to respond to, a collection of information unless it displays a currently valid OMB control number. The public may comment, at any time, on the accuracy of the information collection burden of our regulations and may submit comments to the Department of the Interior; Minerals Management Service; Attention: Regulations and Standards Branch; MS-4024; 381 Elden Street; Herndon, Virginia 20170-4817.

National Environmental Policy Act of 1969

This rule does not constitute a major Federal action significantly affecting the quality of the human environment. The MMS has analyzed this rule under the criteria of the National Environmental Policy Act (42 U.S.C. 4321 et seq.) and determined that it falls within the categorical exclusion for “regulations * * * that are of an administrative, financial, legal, technical, or procedural nature and whose environmental effects are too broad, speculative, or conjectural to lend themselves to meaningful analysis” in that it is a rule of a legal nature. The MMS completed a Categorical Exclusion Review for this action and concluded that the rulemaking does not include an extraordinary circumstance, therefore, preparation of an environmental analysis or environmental impact statement will not be required.

Data Quality Act

In developing this rule, we did not conduct or use a study, experiment, or survey requiring peer review under the Data Quality Act (Pub. L. 106-554, app. C § 515, 114 Stat. 2763, 2763A-153-154).

Effects on the Energy Supply (E.O. 13211)

This rule is not a significant energy action under the definition in E.O. 13211. A Statement of Energy Effects is not required.

List of Subjects in 30 CFR Part 251

Continental shelf, Freedom of information, Oil and gas exploration, Public lands—mineral resources, Reporting and recordkeeping requirements, Research.

Dated: July 2, 2009.
Ned Farquhar,
Acting Assistant Secretary—Land and Minerals Management.

For the reasons stated in the preamble, the Minerals Management Service (MMS) amends 30 CFR part 251 as follows:

PART 251—GEOLOGICAL AND GEOPHYSICAL (G&G) EXPLORATIONS OF THE OUTER CONTINENTAL SHELF

1. The authority citation for part 251 continues to read as follows:

Authority: 31 U.S.C. 9701, 43 U.S.C. 1334.

2. Amend § 251.1 as set forth below:

A. Add definitions for Geological information, Geophysical data, and Geophysical information in alphabetical order;

B. Revise the definitions for Geophysical exploration and Processed geological or geophysical information; and

C. Delete the definition for Information.

§ 251.1 Definitions.

* * * * *

Geological information means geological or geochemical data that have been analyzed, processed, or interpreted.

* * * * *

Geophysical data means measurements that have not been processed or interpreted.

Geophysical exploration means exploration that utilizes geophysical techniques (e.g., gravity, magnetic, electromagnetic, or seismic) to produce data and information on oil, gas, and sulphur resources in support of possible exploration and development activities.

The term does not include geophysical scientific research.

* * * * *

Geophysical information means geophysical data that have been processed or interpreted.

* * * * *

Processed geological or geophysical information means data collected under a permit and later processed or reprocessed. Processing involves changing the form of data so as to facilitate interpretation. Processing operations may include, but are not limited to, applying corrections for known perturbing causes, rearranging or filtering data, and combining or transforming data elements. Reprocessing is the additional processing other than ordinary processing used in the general course of evaluation. Reprocessing operations may include varying identified parameters for the detailed study of a specific problem area. Reprocessing may occur several years after the original processing date. Reprocessing is determined to be completed on the date that the reprocessed information is first available in a useable format for in-house interpretation by MMS or the permittee, or becomes first available to third parties via sale, trade, license agreement, or other means.

* * * * *

3. Amend § 251.14 as set forth below:

A. Revise the introductory text in paragraph (b);

B. Revise the table in paragraph (b)(1);

C. Redesignate paragraphs (b)(2) and (b)(3) as (b)(7) and (b)(8), respectively; and

D. Add new paragraphs (b)(2), (b)(3), (b)(4), (b)(5), and (b)(6) to read as follows:

§ 251.14 Protecting and disclosing data and information submitted to MMS under a permit.

* * * * *

(b) Timetable for release of G&G data and information related to oil, gas, and sulphur that MMS acquires. Except for high-resolution data and information released under 30 CFR 250.197(b)(2), MMS will release or disclose acquired data and information in accordance with paragraphs (b)(1) through (b)(7) of this section.

(1) * * *

If you or a third party submit and MMS retains * * * | The Regional Director will release them to the public * * *
(i) Geological data and information, | 10 years after MMS issued the permit.
(ii) Geophysical data, | 50 years after MMS issued the permit.
(iii) Geophysical information processed or reprocessed less than 20 years after MMS issued the germane permit, | 25 years after MMS issued the permit.
(iv) Geophysical information processed or reprocessed 20 or more years after MMS issued the germane permit, | 25 years after MMS issued the permit; or, if you or a third party applied for an extension of the proprietary term, 5 years after MMS approved the application for an extension. In any case MMS will release the information no later than 50 years after MMS issued the permit.

(2) Permittees and third parties may apply to MMS for an extension of the 25-year proprietary term for geophysical information reprocessed 20 or more years after MMS issued the germane permit. You must submit the application to MMS within 90 days after completion of the reprocessing, except during the initial 1-year grace period as provided in paragraph (b)(5) below. Filing locations are listed in § 251.5(d). Your application must include:

(i) Name and address of the permittee or third party;

(ii) Product name;

(iii) Identification of the geophysical information area;

(iv) Identification of originating permit number and date;

(v) Description of reprocessing performed;

(vi) Identification of the date of completion of reprocessing the geophysical information;

(vii) Certification that the product meets the definition of processed geophysical information and that all other information in the application is accurate; and

(viii) Signature and date.

(3) With each new reprocessing of permitted data, you may apply for an extension of up to 5 years. However, the maximum proprietary term for geophysical information is 50 years after MMS issued the permit. Once the maximum term is reached, the MMS Regional Director will release the information to the public.

(4) Geophysical information processed or reprocessed 20 or more years after MMS issued the germane permit and granted the extension will be subject to submission, inspection, and selection criteria under 30 CFR 251.12 and reimbursement criteria identified under 30 CFR 251.13.

(5) There will be a 1-year grace period, starting September 14, 2009, to allow permittees and third parties sufficient time to meet the above requirements and to apply for all eligible extensions. During this time, MMS will not release geophysical information which was reprocessed 20 or more years after the date that MMS issued the germane permit.

(6) After September 14, 2010 MMS will resume releasing eligible reprocessed information. If an application for extension is not filed, not filed on time, or not approved by MMS, the original 25-year proprietary term applies to the release date of the reprocessed geophysical information.

* * * * *

[FR Doc. E9-19198 Filed 8-12-09; 8:45 am]

BILLING CODE 4310-MR-P